DEPARTMENT OF THE INTERIOR

Bureau of Land Management

[13X.LLAZ956000.L14200000.BJ0000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The plat representing the survey of a portion of the Ninth Standard Parallel North (south boundary), a portion of the north boundary, a portion of the subdivisional lines and the subdivision of certain sections, Township 37 North, Range 7 East, accepted June 19, 2013, and officially filed June 21, 2013, for Group 1107, Arizona.

This plat was prepared at the request of the Bureau of Indian Affairs.

The plat representing the subdivision of certain sections, Township 34 North, Range 8 East, accepted May 9, 2013, and officially filed May 10, 2013, for Group 1107, Arizona.

This plat was prepared at the request of the Bureau of Indian Affairs.

The plat representing the subdivision of certain sections, Township 35 North, Range 8 East, accepted May 9, 2013, and officially filed May 10, 2013, for Group 1107, Arizona.

This plat was prepared at the request of the Bureau of Indian Affairs.

The plat representing the dependent resurvey of a portion of the south boundary, the survey of a portion of the north boundary, a portion of the subdivisional lines and the subdivision of certain sections, Township 30 North, Range 9 East, accepted May 31, 2013, and officially filed June 4, 2013, for Group 1107, Arizona.

This plat was prepared at the request of the Bureau of Indian Affairs.

The plat representing the survey of portions of the east and north boundaries, a portion of the subdivisional lines and the subdivision of certain sections, Township 31 North, Range 9 East, accepted May 31, 2013, and officially filed June 4, 2013, for Group 1107, Arizona.

This plat was prepared at the request of the Bureau of Indian Affairs.

The plat representing the survey of a portion of the subdivisional lines and the subdivision of certain sections, Township 32 North, Range 9 East, accepted May 9, 2013, and officially filed May 10, 2013, for Group 1107, Arizona.

This plat was prepared at the request of the Bureau of Indian Affairs.

The plat representing the survey of a portion of the north boundary, portions of the subdivisional lines and the subdivision of certain sections, Township 33 North, Range 9 East, accepted May 9, 2013, and officially filed May 10, 2013, for Group 1107, Arizona.

This plat was prepared at the request of the Bureau of Indian Affairs.

The plat representing the survey of a portion of the north boundary, portions of the subdivisional lines and the subdivision of sections 32 and 33, Township 33½ North, Range 9 East, accepted May 9, 2013, and officially filed May 10, 2013, for Group 1107, Arizona.

This plat was prepared at the request of the Bureau of Indian Affairs.

The plat representing the survey of a portion of the south boundary, portions of the subdivisional lines and the subdivision of sections 30, 31 and 32, Township 34 North, Range 9 East, accepted May 9, 2013, and officially filed May 10, 2013, for Group 1107, Arizona.

This plat was prepared at the request of the Bureau of Indian Affairs.

The plat representing the survey of the Ninth Standard Parallel North (south boundary), the west and north boundaries, the subdivisional lines and the subdivision of certain sections, Township 37 North, Range 11 East, accepted April 22, 2013, and officially filed April 24, 2013, for Group 1105, Arizona.

This plat was prepared at the request of the Bureau of Indian Affairs.

The plat representing the establishment of the northeast township corner, the survey of the west boundary, a portion of the north boundary, a portion of the subdivisional lines and the subdivision of certain sections, Township 38 North, Range 11 East, accepted April 22, 2013, and officially filed April 24, 2013, for Group 1106, Arizona.

This plat was prepared at the request of the Bureau of Indian Affairs.

The plat (in 6 sheets) representing the dependent resurvey of a portion of the south and east boundaries, a portion of the subdivisional lines and portions of certain mineral surveys, Township 18 South, Range 15 East, accepted April 5, 2013, and officially filed April 9, 2013, for Group 1101, Arizona.

This plat was prepared at the request of the United States Forest Service.

The plat representing the dependent resurvey of a portion of the east boundary, a portion of the subdivisional lines and portions of Mineral Survey Numbers 1299, 1301 and 1302, Township 19 South, Range 15 East, accepted April 5, 2013, and officially filed April 9, 2013, for Group 1101, Arizona.

This plat was prepared at the request of the United States Forest Service.

The plat (in 4 sheets) representing the dependent resurvey of a portion of the subdivisional lines and portions of certain mineral surveys, Township 18 South, Range 16 East, accepted April 5, 2013, and officially filed April 9, 2013, for Group 1101, Arizona.

This plat was prepared at the request of the United States Forest Service.

The plat representing the dependent resurvey of a portion of the north boundary and a portion of the subdivisional lines, Township 19 South, Range 16 East, accepted April 5, 2013, and officially filed April 9, 2013, for Group 1101, Arizona.

This plat was prepared at the request of the United States Forest Service.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Stephen K. Hansen,
Chief Cadastral Surveyor of Arizona.

[FR Doc. 2013-17777 Filed 7-23-13; 8:45 am]

BILLING CODE 4310-32-P